FEDERAL MARITIME COMMISSION

[Docket No. 22-06]

Royal White Cement, Inc., Complainant v. CMA CGM S.A. and CMA CGM (America) LLC, Respondent; Notice of Filing of Complaint and Assignment

Served: March 21, 2022.

Notice is given that a complaint has been filed with the Federal Maritime Commission (Commission) by Royal White Cement, Inc., hereinafter “Complainant”, against CMA CGM S.A. and CMA CGM (America) LLC, “Respondents”. Complainant alleges that Respondent CMA CGM S.A. is a French corporation or similar form of entity, and that Respondent CMA CGM (America) LLC is a New Jersey limited liability company. Complainant alleges that Respondents are common carriers.

Complainant alleges that Respondents violated 46 U.S.C. 41102(c) with regard to refusal to accept bookings and provide equipment to accomplish such bookings pursuant to an agreed service contract. The full text of the complaint can be found in the Commission's Electronic Reading Room at https://www2.fmc.gov/readingroom/proceeding/22-06/.

This proceeding has been assigned to Office of Administrative Law Judges. The initial decision of the presiding office in this proceeding shall be issued by March 21, 2023, and the final decision of the Commission shall be issued by October 5, 2023.

William Cody,
Secretary.

[FR Doc. 2022-06233 Filed 3-23-22; 8:45 am]

BILLING CODE 6730-02-P